FEDERAL MINE SAFETY AND HEALTH REVIEW COMMISSION

Sunshine Act Meetings

TIME AND DATE: 10 a.m., Tuesday, June 12, 2025.

PLACE: The meeting will be held via remote means and/or in the Richard V. Backley Hearing Room, Room 511, 1331 Pennsylvania Avenue NW, Suite 504 North, Washington, DC 20004.

STATUS: Closed.

MATTERS TO BE CONSIDERED: The Commission will conduct a meeting closed to the public to consider: Secretary of Labor v. Morton Salt, Inc., Docket No. CENT 2022-0176. (Issues include whether the Judge erred in concluding that violations of 30 CFR 57.3200 and 57.11053(c) were not significant and substantial.) Commissioners will attend the meeting. Commission staff members who provide technological support and other Commission staff may also be present as necessary. This meeting is closed to the public pursuant to 5 U.S.C. 552b(c)(10) on the basis of the Commission's consideration or disposition of a “particular case of formal agency adjudication.” The Commission determined that shorter than usual notice for a meeting was required by official agency business.

CONTACT PERSON FOR MORE INFORMATION: Sarah Stewart (202) 525-8651/(202) 708-9300 for TDD Relay/1-800-877-8339 for toll free.

Authority: 5 U.S.C. 552b.

Dated: June 4, 2025.
Sarah L. Stewart,
Acting General Counsel.

[FR Doc. 2025-10440 Filed 6-5-25; 11:15 am]

BILLING CODE 6735-01-P